Title 3—

The President

Proclamation 7314 of May 26, 2000

To Modify the Quantitative Limitations Applicable to Imports of Wheat Gluten

By the President of the United States of America

A Proclamation

1. On May 30, 1998, pursuant to section 203 of the Trade Act of 1974, as amended (the “Trade Act”) (19 U.S.C. 2253), I issued Proclamation 7103, which imposed quantitative limitations on certain wheat gluten imports provided for in subheadings 1109.00.10 and 1109.00.90 of the Harmonized Tariff Schedule of the United States (HTS) for a period of 3 years plus 1 day, with annual increases in such quota limits of 6 percent during the second and the third year. I exempted imports of wheat gluten that is the product of certain countries, including designated beneficiary countries under the Generalized System of Preferences (“GSP countries”), from the application of the quantitative limitations.

2. On December 1, 1999, the United States International Trade Commission (USITC) issued a report, as required under section 204(a)(2) of the Trade Act (19 U.S.C. 2254(a)(2)), on the results of its monitoring of developments with respect to the domestic wheat gluten industry. The USITC report notes that in the 12-month period prior to the imposition of the quota (June 1, 1997-May 31, 1998), 440,000 pounds of wheat gluten entered the United States from Poland. During the first quota year (June 1, 1998-May 31, 1999), imports from Poland grew to 5,004,000 pounds, or more than eleven times the amount of the previous year, accounting for 2.9 percent of total U.S. imports. The USITC report has been provided to me (Investigation Number TA-204-2). More recent data from the United States Customs Service indicate that in the first 10 months of the second quota year (June 1999-March 2000), imports from Poland totaled 8,965,800 pounds, accounting for 6.9 percent of total U.S. imports.

3. Section 204(b)(1)(A) of the Trade Act (19 U.S.C. 2254(b)(1)(A)) authorizes the President, after taking into account the report of the USITC required under section 204(a)(2) of the Trade Act and seeking advice from the Secretary of Commerce and the Secretary of Labor, to reduce, modify, or terminate an action taken under section 203 of the Trade Act when the President determines that changed economic circumstances so warrant.

4. After taking into account the information provided in the USITC's report, and after receiving advice from the Secretary of Commerce and the Secretary of Labor, I have determined, on the basis that increased imports of wheat gluten the product of Poland have impaired the effectiveness of the action I proclaimed in 1998 under section 203 of the Trade Act, that changed economic circumstances warrant a modification in the action. Accordingly, I have decided to include in the action imports of wheat gluten the product of Poland, beginning June 1, 2000.

5. Pursuant to section 203(g) of the Trade Act (19 U.S.C. 2253(g)), I have further determined to provide for the efficient and fair administration of the quantitative limitation on imports of wheat gluten by allocating on a quarterly basis the quantitative limitations applicable during the third year of the action.

6. Pursuant to section 503(b)(2) of the Trade Act (19 U.S.C. 2463(b)(2)), no article shall be eligible for duty-free treatment provided under section 501 of the Trade Act if that article is subject to an action proclaimed under section 203.

7. Section 604 of the Trade Act (19 U.S.C. 2483) authorizes the President to embody in the HTS the substance of the relevant provisions of that Act, and of other acts affecting import treatment, and actions thereunder, including the removal, modification, continuance, or imposition of any rate of duty or other import restriction.

NOW, THEREFORE, I, WILLIAM J. CLINTON, President of the United States of America, acting under the authority vested in me by the Constitution and the laws of the United States of America, including but not limited to sections 204, 503, and 604 of the Trade Act, do proclaim that:

(1) In order to modify the scope of the quantitative limitations applicable to imports of wheat gluten under HTS heading 1109, and to allocate the quota quantities for the third quota year on a quarterly basis, subchapter III of chapter 99 of the HTS is modified as set forth in the Annex to this proclamation.

(2) Such imported wheat gluten that is the product of Poland shall be included within the scope of the quantitative limitations during the third quota year, as provided in the Annex.

(3) Any provisions of previous proclamations and Executive orders that are inconsistent with the actions taken in this proclamation are superseded to the extent of such inconsistency.

(4) Effective at the close of June 1, 2002, or such other date that is 1 year from the close of the action taken under section 203 of the Trade Act, as modified by this proclamation, HTS subheadings 9903.11.08 through 9903.11.11 and the superior text thereto shall be deleted from the HTS.

(5) Pursuant to section 503(b)(2) of the Trade Act (19 U.S.C. 2463(b)(2)), duty-free treatment for certain wheat gluten that is the product of beneficiary countries under the Generalized System of Preferences (GSP) (Title V of the Trade Act, as amended (19 U.S.C. 2461-2467)), is suspended.

(6) The modifications to the HTS made by this proclamation and the Annex thereto shall be effective with respect to goods entered, or withdrawn from warehouse for consumption, on or after 12:01 a.m. EDT June 1, 2000, and shall continue in effect through the close of June 1, 2001, unless such actions are earlier expressly modified or terminated.

IN WITNESS WHEREOF, I have hereunto set my hand this twenty-sixth day of May, in the year of our Lord two thousand, and of the Independence of the United States of America the two hundred and twenty-fourth.

wj

Billing code 3195-01-P

ANNEX

Section A

Effective with respect to goods entered, or withdrawn from warehouse for consumption, on or after 12:00 a.m. EDT June 1, 2000, subheading 1109.00.10 and subheading 1109.00.90 of the Harmonized Tariff Schedule of the United States are each modified by deleting the symbol “A” in the rates of duty 1-special subcolumn.

Section B

Effective with respect to goods entered, or withdrawn from warehouse for consumption, on or after 12:00 a.m. EDT June 1, 2000, subheading 9903.11.07 is deleted and the following new subheadings and superior text thereto are inserted in lieu thereof, with the superior text at the same level of indentation as the article description of subheading 9903.11.06:

| “:Wheat gluten, whether or not dried, except products of Canada, | :
| :of Mexico, of Israel, of beneficiary countries under the Caribbean | :
| :Basin Economic Recovery Act (as enumerated in general note 7 to | :
| :this schedule) or the Andean Trade Preference Act (as enumerated | :
| :in general note 11 to this schedule), or of countries (except Poland) | :
| :enumerated in general note 4(a) to this schedule as that note | :
| :existed on June 1, 1998 (provided for in subheadings 1109.00.10 | :
| :and 1109.00.90), if entered during the period from June 1, 2000, | :
| :through June 1, 2001, inclusive: | :

| 9903.11.08 | : If entered during the period from June 1, 2000, through | :
|  | : August 31, 2000, in the respective aggregate quantity of | :
|  | : goods the product of a foreign country specified below, | :
|  | : after which no wheat gluten the product of such country | :
|  | : may be entered during the remainder of such period: | :

| : Australia | : 7,953,500 kg
| : European Community | : 6,885,750 kg
| : Other countries | : 1,318,250 kg

| 9903.11.09 | : If entered during the period from September 1, 2000, through | :
|  | : through November 30, 2000, in the respective aggregate | :
|  | : quantity of goods the product of a foreign country specified | :
|  | : below, after which no wheat gluten the product of such | :
|  | : country may be entered during the remainder of such period: | :

| : Australia | : 7,953,500 kg
| : European Community | : 6,885,750 kg
| : Other countries | : 1,318,250 kg

| 9903.11.10 | : If entered during the period from December 1, 2000, through | :
|  | : February 28, 2001, in the respective aggregate quantity of | :
|  | : goods the product of a foreign country specified below, after | :
|  | : which no wheat gluten the product of such country may be | :
|  | : entered during the remainder of such period: | :

| : Australia | : 7,953,500 kg
| : European Community | : 6,885,750 kg
| : Other countries | : 1,318,250 kg

| 9903.11.11 | : If entered during the period from March 1, 2001, through | :
|  | : June 1, 2001, in the respective aggregate quantity of goods | :
|  | : the product of a foreign country specified below, after which | :
|  | : no wheat gluten the product of such country may be entered | :
|  | : during the remainder of such period: | :

| : Australia | : 7,953,500 kg
| : European Community | : 6,885,750 kg
| : Other countries | : 1,318,250 kg”

[FR Doc. 00-13789

Filed 5-30-00; 8:45 am]

BILLING CODE 3190-01-P